FEDERAL MINE SAFETY AND HEALTH REVIEW COMMISSION

Sunshine Act Meeting

July 19, 2001.

Time and Date: 10:30 a.m., Thursday, July 26, 2001.

Place: Room 6005, 6th Floor, 1730 K Street, NW., Washington, DC.

Status: Open.

Matters to be Considered: The Commission will consider and act upon the following:

1. George Colliers, Inc., Docket Nos. CENT 2000-65, etc. (Issues include whether the judge erred in declining to consider evidence of the operator's financial condition with regard to the effect of the penalty on the operator's ability to continue in business).

Any person attending an open meeting who requires special accessibility features and/or auxiliary aids, such as sign language interpreters, must inform the Commission in advance of those needs. Subject to 29 CFR 2706.150(a)(3) and 2706.160(d).

Contact Person For More Info: Jean Ellen (202) 653-5629/(202) 708-9300 for TDD Relay/1-800-877-8339 for toll free.

Jean H. Ellen,
Chief Docket Clerk.

[FR Doc. 01-18779 Filed 7-24-01; 12:17 pm]

BILLING CODE 6735-01-M